DEPARTMENT OF AGRICULTURE

Forest Service

Wrangell-Petersburg Resource Advisory Committee

AGENCY: Forest Service, USDA.

ACTION: Notice of meeting.

SUMMARY: The Wrangell-Petersburg Resource Advisory Committee (RAC) will meet from 1 p.m. until 5:15 p.m. on Friday, April 4, and from 8 a.m. until 12 noon, Saturday, April 5, 2003, in Petersburg, Alaska. The purpose of this meeting is to review, discuss and potentially recommend for funding proposals received pursuant to title II, Public Law 106-393, H.R. 2389, the Secure Rural Schools and Community Self-Determination Act of 2000, also called the “Payments to States” Act. Public testimony regarding the proposals will also be taken.

DATES: The meeting will be held commencing at 1 p.m. on Friday, April 4 through 12 noon, Saturday, April 5, 2003.

ADDRESSES: The meeting will be held at the Holy Cross House, Petersburg Lutheran Church, 407 Fram Street, Petersburg, Alaska.

FOR FURTHER INFORMATION CONTACT: Chip Weber, Wrangell District Ranger, P.O. Box 51, Wrangell, AK 99929, phone (907) 874-2323, e-mail cweber@fs.fed.us, or Patty Grantham, Petersburg District Ranger, P.O. Box 1328, Petersburg, AK 99833, phone (907) 772-3871, email pagrantham@fs.fed.us. For further information on RAC history, operations, and the application process, a Web site is available at www.fs.fed.us/r10/payments.

SUPPLEMENTARY INFORMATION: This meeting will focus on the review and discussion of proposals received by the RAC for funding under Title II of the Payments to States legislation (Pub. L. 106-393). No new proposals (initial reading) will be discussed at this meeting. This meeting will serve as the second reading for proposals received for the February 2003 meeting; the RAC may recommend funding for some or all of these proposals during this meeting. The RAC may also review, discuss or make recommendations for funding for projects received for the January 2003 meeting. The meeting is open to the public. Public input opportunity will be provided and individuals will have the opportunity to address the committee at that time. It is anticipated that this will be the last meeting of the RAC until sometime in the fall of 2003.

Dated: March 17, 2003.
Olleke E. Rappe-Daniels,
Acting Forest Supervisor.

[FR Doc. 03-6907 Filed 3-21-03; 8:45 am]

BILLING CODE 3410-11-M